DEPARTMENT OF AGRICULTURE

Commodity Credit Corporation

7 CFR Part 1487

RIN 0551-AA63

Technical Assistance for Specialty Crops Program

AGENCY: Commodity Credit Corporation, USDA.

ACTION: Interim rule.

SUMMARY: This rule implements the Commodity Credit Corporation's “Technical Assistance for Specialty Crops” program to help open, retain, and expand markets for U.S. specialty crops.

DATES: This rule is effective September 10, 2002. Comments concerning this rule should be received on or before November 12, 2002 to be assured consideration. Commodity Credit Corporation has published elsewhere in this issue a notice announcing that proposals to this program will be accepted until 5 p.m. Eastern Daylight Time, September 18, 2002.

ADDRESSES: Comments must be submitted to Director, Marketing Operations Staff, Foreign Agricultural Service, Room 4932-S, Stop 1042, U.S. Department of Agriculture, 1400 Independence Ave., SW., Washington, DC 20250-1042.

FOR FURTHER INFORMATION CONTACT: Marketing Operations Staff, Foreign Agricultural Service, Room 4932-S, Stop 1042, U.S. Department of Agriculture, 1400 Independence Ave., SW., Washington, DC 20250-1042, or telephone: (202) 720-4327.

SUPPLEMENTARY INFORMATION:

Executive Order 12866

This rule is issued in conformance with Executive Order 12866. It has been determined significant for the purposes of Executive Order 12866 and, therefore, has been reviewed by the Office of Management and Budget (OMB).

Regulatory Flexibility Act

It has been determined that the Regulatory Flexibility Act is not applicable to this rule because the Commodity Credit Corporation is not required by any provision of law to publish a notice of proposed rulemaking with respect to the subject matter of this rule.

Executive Order 12988

This proposed rule has been reviewed in accordance with Executive Order 12988, Civil Justice Reform. This rule would have preemptive effect with respect to any State or local laws, regulations or policies which conflict with such provisions or which otherwise impede their full implementation; does not have retroactive effect; and does not require administrative proceedings before suit may be filed.

Executive Order 12372

This program is not subject to the provisions of Executive Order 12372, which require intergovernmental consultation with State and local officials. See the notice related to 7 CFR part 3014, subpart V, published at 48 FR 29115 (June 24, 1983).

The Unfunded Mandates Reform Act of 1995

This rule contains no Federal mandates under the regulatory provisions of Title II of the Unfunded Mandates Reform Act of 1995 (UMRA) for State, local, and tribal governments or the private sector. Thus, this rule is not subject to the requirements of sections 202 and 205 of the UMRA.

Paperwork Reduction Act of 1995

In accordance with section 3507(j) of the Paperwork Reduction Act of 1995 (44 U.S.C. 3501 et seq.), the Commodity Credit Corporation (CCC) requests approval of a new information collection in support of the Technical Assistance for Specialty Crops program.

Title: Technical Assistance for Specialty Crops Program.

OMB Control Number: Not yet assigned.

Type of Request: Approval of an information collection.

Abstract: This information is needed to administer CCC's Technical Assistance for Specialty Crops program. The information will be gathered from applicants desiring to receive grants under the program to determine the viability of requests for funds.

Estimate of Burden: Public reporting burden for this collection of information is estimated to average 32 hours per year per respondent.

Respondents: U.S. government agencies, State government agencies, non-profit trade associations, universities, agricultural cooperatives, and private companies.

Estimated Number of Respondents: 20.

Estimated Number of Responses per Respondent: 5.

Estimated Total Annual Burden on Respondents: 640 hours.

Proposed topics for comments are: (a) Whether the collection of information is necessary for the proper performance of the functions of the agency, including whether the information will have practical utility; (b) the accuracy of the agency's estimate of burden including the validity of the methodology and assumptions used; (c) ways to enhance the quality, utility, and clarity of the information to be collected; or (d) ways to minimize the burden of the collection of information on those who are to respond, including the use of appropriate automated, electronic, mechanical or other technological collection techniques or other forms of information technology.

Comments should be sent to the Desk Officer for Agriculture, Office of Information and Regulatory Affairs, Office of Management and Budget, Washington, DC 20503 and to: Director, Marketing Operations Staff, Foreign Agricultural Service, Room 4932-S, Stop 1042, U.S. Department of Agriculture, 1400 Independence Ave., SW., Washington, D.C. 20250-1042.

Copies of this information collection may be obtained from Kimberly Chisley, FAS Information Collection Coordinator, at (202) 720-2568.

All responses to this notice will be summarized. All comments will also become a matter of public record.

Executive Order 12612

It has been determined that this rule does not have sufficient Federalism implications to warrant the preparation of a Federalism Assessment. The provisions contained in this rule will not have a substantial direct effect on States or their political subdivisions, or on the distribution of power and responsibilities among the various levels of government.

Immediate Effectiveness of This Rule

It has been determined that this rule should be issued as an interim rule, without prior comment, but subject to modification on the consideration of those comments that are timely received. The Technical Assistance for Specialty Crops program is authorized by section 3205 of the Farm Security and Rural Investment Act of 2002 (Pub. L. 107-171), which became effective on May 13, 2002. That section provides that the Secretary of Agriculture shall establish a program to address unique barriers that prohibit or threaten the export of United States specialty crops and that the Secretary shall make available $2,000,000 of CCC funds for each of fiscal years 2002 through 2007. It has been determined that to delay the implementation of the rule pending comment would be impracticable and contrary to the public interest. That finding is based on the fact that, given the limited time remaining in this fiscal year, it is not possible for organizations to develop appropriate proposals for the new $2 million program and for the Department to adequately evaluate these new proposals through a meaningful allocation process. We do not believe that a compressed schedule that would result following adoption of a final rule after an initial proposed rule would give potential new applicants enough time to gather information and prepare a proposal. In addition, the Department would be forced to shorten its competitive review processes. In other words, the Department might not be able to allocate the resources as required by section 3205 of Public Law 107-171. Accordingly, for all the foregoing reasons, it has been determined that the provisions of this rule should be made effective immediately.

Background

The CCC will periodically announce that proposals may be submitted for participation in a “Technical Assistance for Specialty Crops” program (TASC), which will be administered by personnel of the Foreign Agricultural Service (FAS). On May 13, 2002, the President signed the Farm Security and Rural Investment Act of 2002. Section 3205 of that Act directs the Secretary to establish an export assistance program to address unique barriers that prohibit or threaten the export of U.S. specialty crops. The statute directs the Secretary to make available $2,000,000 of CCC resources for TASC in each of fiscal years 2002 through 2007. U.S. specialty crops, for the purpose of this rule, include all cultivated plants, or the products thereof, produced in the U.S., except wheat, feed grains, oilseeds, cotton, rice, peanuts, sugar, and tobacco.

The TASC is designed to assist U.S. organizations by providing funding for projects that address sanitary, phytosanitary, and technical barriers that prohibit or threaten the export of U.S. specialty crops. TASC proposals will be accepted from any U.S. organization, including, but not limited to: U.S. government agencies, State government agencies, non-profit trade associations, universities, agricultural cooperatives, and private companies. FAS will consider providing either grant funds as direct assistance to U.S. organizations or providing technical assistance on behalf of U.S. organizations provided that the organization submits timely and sufficient proposals. CCC has published elsewhere in this issue a notice announcing that proposals to this program for fiscal year 2002 will be accepted until 5 p.m. Eastern Daylight Time, September 18, 2002. For fiscal year 2002, FAS will review all proposals against the evaluation criteria contained herein and make awards on a continuing, or rolling, basis.

Under the TASC program, CCC will enter into agreements with those non-Federal entities whose proposals have been approved. After implementation of a TASC project for which CCC has agreed to provide funding, participants may submit claims for reimbursement of the costs associated with completing the project, to the extent that CCC has agreed to pay such costs. A TASC participant will be reimbursed after CCC reviews its claim and determines that the claim is complete. TASC projects will be subject to verification by the FAS Compliance Review Staff. Upon request, a TASC participant shall provide to FAS the original documents that support the participant's project expenses. FAS may deny a claim for reimbursement if the claim is not supported by adequate documentation. TASC participants may request advances of funds up to 85 percent of the approved amount. In such cases, reimbursement claims will be used to offset the advanced funds. TASC participants must deposit and maintain advances in insured, interest-bearing accounts, unless such accounts are prohibited by law or custom of a host country.

List of Subjects in 7 CFR Part 1487

Agricultural commodities, Exports, Specialty crops.

Accordingly, title 7 of the Code of Federal Regulations is revised by adding a new part 1487 to read as follows:

PART 1487—TECHNICAL ASSISTANCE FOR SPECIALTY CROPS

Sec.
1487.1 What special definitions apply to the TASC program?
1487.2 What is the TASC Program?
1487.3 What activities are eligible?
1487.4 Are there any limits on the scope of proposals?
1487.5 What is the process for submitting proposals?
1487.6 What are the criteria for evaluating proposals?
1487.7 How are agreements formalized?
1487.8 How does my organization apply for funds?
1487.9 Can participants receive advance payments?

Authority: Sec. 3205 of Pub. L. 107-171.

PART 1487—TECHNICAL ASSISTANCE FOR SPECIALTY CROPS

§ 1487.1 What special definitions apply to the TASC program?

For purposes of this part, the following definitions apply:

CCC—Commodity Credit Corporation.

FAS—Foreign Agricultural Service, United States Department of Agriculture.

Specialty crop—all cultivated plants, or the products thereof, produced in the United States, except wheat, feed grains, oilseeds, cotton, rice, peanuts, sugar, and tobacco.

TASC—Technical Assistance for Specialty Crops.

United States—the fifty states, the District of Columbia, and Puerto Rico.

§ 1487.2 What is the TASC program?

Under the TASC program, CCC, an agency and instrumentality of the United States within the Department of Agriculture, provides funds to eligible organizations, on a grant basis, to implement activities that are intended to address a sanitary, phytosanitary, or related technical barrier that prohibit or threaten the export of U.S. specialty crops that are currently available on a commercial basis. The TASC program is intended to benefit the represented industry rather than a specific company or brand. This program is administered by FAS.

§ 1487.3 What activities are eligible?

(a) General. In order to be eligible for funding under the TASC program, activities must address sanitary, phytosanitary, or technical barriers to export of specialty crops. Examples of expenses that CCC may agree to cover under the TASC program include, but are not limited to: initial pre-clearance programs, export protocol and work plan support, seminars and workshops, study tours, field surveys, development of pest lists, pest and disease research, database development, reasonable logistical and administrative support, and travel and per diem expenses.

(b) Location of activities. Eligible projects may take place in the United States or abroad.

§ 1487.4 Are there any limits on the scope of proposals?

(a) Funding cap. TASC proposals which request more than $250,000 of CCC funding in a given year will not be considered.

(b) Length of activities. TASC proposals to fund activities that exceed three years will not be considered.

(c) Target countries. Proposals may target all export markets, including single countries or reasonable regional groupings of countries.

(d) Multiple proposals. Applicants may submit multiple proposals, but no TASC participant may have more than three approved projects underway at any given time.

§ 1487.5 What is the process for submitting proposals?

(a) General. To be considered for participation in the TASC, interested parties should submit proposals to: Director, Marketing Operations Staff, Foreign Agricultural Service, Room 4932-S, Stop 1042, U.S. Department of Agriculture, 1400 Independence Ave., SW., Washington, DC 20250-1042. Telephone: (202) 720-4327. Entities interested in participating in the TASC program are not required to submit proposals in any specific format, although interested parties can request a suggested format for proposals from the same address.

(b) Contents of proposals. TASC proposals must contain complete information about the proposed projects, including, at a minimum, the following:

(1) Organizational information, including:

(i) Organization's name, address, Chief Executive Officer (or designee), and Federal Tax Identification Number (TIN);

(ii) Type of organization;

(iii) Name, telephone number, fax number, and e-mail address of the primary contact person;

(iv) A description of the organization and its membership; and

(v) A description of the organization's experience in technical assistance projects, including activities involved and project results.

(2) Project information, including:

(i) A brief project title;

(ii) Request for funding;

(iii) A market assessment, including a brief description of the specific export barrier to be addressed by the project;

(iv) The goals of the project, and the expected benefits to the represented industry;

(v) A description of the activities planned to address the export barrier;

(vi) An itemized list of all estimated costs associated with the project for which reimbursement will be sought; and

(vii) Information indicating all financial and in-kind support to the proposed project, and the resources to be contributed by each entity that will contribute to the project's implementation. This may include the organization that submitted the proposal, private industry entities, host governments, foreign third parties, CCC, FAS, or other Federal agencies. Support may include cash, goods, and services. Although highly encouraged, financial support from the participant is not required.

(3) Export information, including:

(i) Performance measures for three years, beginning with the year that the project would begin, which will be used to measure the effectiveness of the project;

(ii) A benchmark performance measure for the year prior to the year that the project would begin; and

(iii) The viability of long-term sales to this market.

§ 1487.6 What are the criteria for evaluating proposals?

(a) Evaluation criteria. FAS will use the following criteria in evaluating proposals:

(1) The degree to which time is essential to addressing specific export barriers;

(2) The nature of the specific export barrier and the extent to which the proposal is likely to successfully remove, resolve, or mitigate that barrier;

(3) The impact of the proposed project on market retention, market access, and market expansion;

(4) The completeness and viability of the proposal;

(5) The ability of the organization to provide an experienced staff with the requisite technical and trade experience to execute the proposal;

(6) The extent to which the proposal is targeted to a market in which the United States is generally competitive;

(7) The potential for expanding commercial sales in the targeted market; and

(8) The cost of the project and the amount of other resources dedicated to the project, including cash and goods and services of the U.S. industry and foreign third parties.

(b) Evaluation process. FAS will review proposals for eligibility and will evaluate each proposal against the factors described in paragraph (a) of this section. The purpose of this review is to identify meritorious proposals, recommend an appropriate funding level for each proposal based upon these factors, and submit the proposals and funding recommendations to the Deputy Administrator, Commodity and Marketing Programs. FAS may, when appropriate to the subject matter of the proposal, request the assistance of other U.S. government experts in evaluating the merits of a proposal.

§ 1487.7 How are agreements formalized?

Following approval of a proposal, CCC will enter into an agreement with the organization that submitted the proposal. TASC agreements will incorporate the proposal as approved by FAS, include a maximum amount that may be reimbursed, and identify terms and conditions pursuant to which CCC will reimburse certain costs of the project. TASC agreements will also outline any specific responsibilities of the participant, including, but not limited to, timely and effective implementation of technical assistance and submission of a written evaluation report within six months of completion of the project. Evaluation reports should address the performance measures presented in the proposal. TASC participants are also subject to the reporting and recordkeeping requirements described in 7 CFR part 3019, “Uniform Administrative Requirements for Grants and Agreements with Institutions of Higher Education, Hospitals, and Other Non-profit Organizations”.

§ 1487.8 How does my organization apply for funds?

CCC will publish a notice periodically in the Federal Register informing the public of the process by which interested organizations may apply for TASC program funding. This notice will, among other things, include information on any deadlines for submitting applications and the office where the applications should be sent.

§ 1487.9 Can participants receive advance payments?

(a) Reimbursement. Generally, after implementation of a TASC project for which CCC has agreed to provide funding, participants may submit claims for reimbursement of the costs associated with completing the project, to the extent that CCC has agreed to pay such costs. A TASC participant will be reimbursed after CCC reviews its claim and determines that the claim is complete. TASC projects will be subject to verification by the FAS Compliance Review Staff.

(b) Advances. TASC participants may request advances of funds up to 85 percent of the amount approved for funding. In such cases, reimbursement claims will be used to offset the advanced funds.

(c) Interest. TASC participants must deposit and maintain advances in insured, interest-bearing accounts, unless such accounts are prohibited by law or custom of a host country. Interest earned on advances must be returned to CCC.

Dated: September 6, 2002.
W. Kirk Miller,
Acting Administrator, Foreign Agricultural Service, and Vice President, Commodity Credit Corporation.

[FR Doc. 02-23056 Filed 9-6-02; 1:03 pm]

BILLING CODE 3410-10-P